COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and delete product(s) previously furnished by such agencies.

DATES: Comments must be received on or before: March 07, 2026.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-2.4(b), Government personnel within the contracting activity have identified this as a product requirement not applicable to other Federal entities and has requested the Committee consider granting a purchase or distribution preference if the product is added to the Procurement List. See 71 FR 69536 (Dec. 1, 2006). If the Committee grants this request, the product will not be available through the U.S. AbilityOne Commission's Commercial Distribution Program. The Committee will consider this request along with relevant comments received from interested parties.

The following product(s) are proposed for addition to the Procurement List for production by the nonprofit agencies listed

Product(s)

NSN(s)—Product Name(s):

6545-01-689-9365—Kit, Standard Vehicle, Medical

Authorized Source of Supply: The Lighthouse for the Blind, Inc. (Seattle Lighthouse), Seattle, WA

Mandatory For: DEPT OF DEFENSE

Contracting Activity: DEPT OF DEFENSE, DLA TROOP SUPPORT

The following product(s) are proposed for deletion to the Procurement List:

Product(s)

NSN(s)—Product Name(s):

7510-00-NIB-0364—Coaster Set, Wooden

Mandatory For: Total Government Requirement

Contracting Activity: GENERAL SERVICES ADMINISTRATION, GSA/FAS ADMIN SVCS ACQUISITION BR(2

2590-01-609-3878—Combat Identification Panel Assembly, Stryker Platform, Side, Brown

2590-01-398-6740—Combat Identification Kit, M992 FAASV Platform, Tan, Aluminum Alloy

2590-01-398-6743—Combat Identification Assembly, M93A1 NBCRS (Fox) Platform, Rear, Brown

2590-01-398-6744—Combat Identification Assembly, M93A1 NBCRS (Fox) Left Side, Brown

2590-01-398-6746—Combat Identification Assembly, M109 PALADIN Platform, Side, Brown

2590-01-398-6748—Combat Identification Assembly, M109 PALADIN Platform, Rear, Brown

2590-01-398-8075—Front or Rear Panel Assembly, Combat Identification Panel Kit, Thermal, Non-Armored, FMTV and HEMTT

2590-01-398-8078—Combat Identification Assembly, High Mobility Multi-Wheel Vehicle (HMMWV) ECV Platform, Side, Brown

2590-01-398-8080—Combat Identification Assembly, High Mobility Multi-Wheel Vehicle (HMMWV) ECV Platform, Rear, Brown

2590-01-398-8086—Combat Identification Assem, High Mobility Multi-Wheel Vehicle (HMMWV) Basic Armour, Brown

2590-01-399-2932—Combat Identification Assem, HMMWV, Basic Armour, Brown

2590-01-399-2935—Combat Identification Assembly, M9 Ace Platform, Front, Brown

2590-01-399-2937—Combat Identification Assembly, M9 Ace Platform, Rear, Brown

2590-01-609-3872—Combat Identification Assembly, Stryker Platform, Front, Brown

2590-01-609-3882—Combat Identification Assembly, Airborne Threat Detector, Stryker Platform, Brown

Mandatory For: DEPT OF THE ARMY

Contracting Activity: DEPT OF THE ARMY, W6QK ACC-APG NATICK

2530-01-337-7324—Parts Kit, Air Filter

Mandatory For: DEFENSE LOGISTICS AGENCY

Contracting Activity: DEFENSE LOGISTICS AGENCY, DLA LAND AND MARITIME

7510-01-633-7856—Toner Cartridge, Remanufactured, Lexmark E350/E352 Series

7510-01-633-7857—Toner Cartridge, Remanufactured, Lexmark E450 Series

Mandatory For: Total Government Requirement

Contracting Activity: GSA/FAS ADMIN SVCS ACQUISITION BR(2)

7510-01-641-9544—Toner Cartridge, Remanufactured, Lexmark Optra T644/X644/X646 Series

7510-01-659-0096—Toner Cartridge, Remanufactured Dell 1720 Series

7510-01-659-0100—Toner Cartridge, Remanufactured Dell 1700 and 1710 Series

7510-01-659-0097—Toner Cartridge, Remanufactured Dell 5530dn/5535dn Series

7510-01-677-4486—Toner Cartridge, Remanufactured Dell B1260dn/B1260dnf/B1265dnf/B1265dfw Series

7510-01-677-4485—Toner Cartridge, Remanufactured Dell 2335dn Series

7510-01-677-4488—Toner Cartridge, Remanufactured Dell 2355n Series

7510-01-677-4490—Toner Cartridge, Remanufactured Dell B5460dn/B5465dnf Series, Black ink, 25000 Page Yield

Mandatory For: Total Government Requirement

Contracting Activity: GSA/FAS ADMIN SVCS ACQUISITION BR(2

7510-01-689-1060—Toner Cartridge, Remanufactured, HP 312A Series, Black Ink

7510-01-689-1050—Toner Cartridge, Remanufactured, HP 312X Series, Black Ink

7510-01-689-1049—Toner Cartridge, Remanufactured, HP 312A Series, Cyan Ink

7510-01-689-1046—Toner Cartridge, Remanufactured, HP 312A Series, Yellow Ink

7510-01-689-1048—Toner Cartridge, Remanufactured, HP 312A Series, Magenta Ink

7510-01-689-1059—Toner Cartridge, Remanufactured, HP 90XJ Series, Black Ink

7510-01-691-5767—Toner Cartridge, Remanufactured, Xerox 108R00795, Black

7510-01-590-1504—Toner Cartridge, Remanufactured, HP 53 A & 53 X Series

7510-01-590-1505—Toner Cartridge, Remanufactured, HP 51A & 51X Series

7510-01-660-3971—Toner Cartridge, Remanufactured, Standard Yield, Black, HP CP 1525NW/CM1415FNW

7510-01-660-3973—Toner Cartridge, Remanufactured, Standard Yield, Cyan, HP CP 1525NW/CM1415FNW

7510-01-660-3974—Toner Cartridge, Remanufactured, Standard Yield, Magenta, HP CP 1525NW/CM1415FNW

7510-01-660-4950—Toner Cartridge, Remanufactured, Standard Yield, Yellow, HP CP 1525NW/CM1415FNW

7510-01-560-6574—Toner Cartridge, Remanufactured, HP LJ 4100 Series

7510-01-560-6575—Toner Cartridge, Remanufactured, HP LJ 2100/2200 Series

7510-01-560-6577—Toner Cartridge, Remanufactured, HP LJ 4000/4000T/4000N/4000TN/4050 Series

Mandatory For: Total Government Requirement

Contracting Activity: GSA/FAS ADMIN SVCS ACQUISITION BR(2

Michael R. Jurkowski,
Director, Business Operations.

[FR Doc. 2026-02347 Filed 2-5-26; 8:45 am]

BILLING CODE 6353-01-P